ENVIRONMENTAL PROTECTION AGENCY

[FRL-8233-5]

EPA Science Advisory Board; Notification of a Public Telephone Conference of the Homeland Security Advisory Committee

AGENCY: Environmental Protection Agency.

ACTION: Notice.

SUMMARY: The Environmental Protection Agency (EPA) Science Advisory Board (SAB) Staff Office announces a public telephone conference of the Homeland Security Advisory Committee (HSAC) to be briefed on the status of the Agency's Standard Analytical Methods (SAM) and WaterSentinel (WS) projects and upcoming projects by the National Homeland Security Research Center in the Office of Research and Development.

DATES: November 13, 2006, the meeting will begin at 12 p.m. and end by 3 p.m. (Eastern Time).

ADDRESSES: Telephone conference call only.

FOR FURTHER INFORMATION CONTACT: Any member of the public wishing to obtain general information concerning this teleconference should contact Ms. Vivian Turner, Designated Federal Officer (DFO), EPA Science Advisory Board (1400F), U.S. Environmental Protection Agency, 1200 Pennsylvania Avenue, NW., Washington, DC 20460; via telephone/voice mail (202) 343-9697; fax (202) 233-0643; or e-mail at: turner.vivian@epa.gov. General information concerning the EPA Science Advisory Board and the Homeland Security Advisory Committee can be found on the EPA Web site at: http://www.epa.gov/sab.

SUPPLEMENTARY INFORMATION: Pursuant to the Federal Advisory Committee Act, Public Law 92-463, notice is hereby given that the EPA SAB HSAC will hold a public teleconference to be briefed on the status of the Agency's Standard Analytical Methods (SAM) and WaterSentinel (WS) projects and upcoming projects by the National Homeland Security Research Center in the Office of Research and Development. The SAB was established by 42 U.S.C. 4365 to provide independent scientific and technical advice to the Administrator on the technical basis for Agency positions and regulations. The SAB is a Federal Advisory Committee chartered under the Federal Advisory Committee Act (FACA), as amended, 5 U.S.C., App. As a subcommittee of the SAB, the HSAC will comply with the provisions of FACA and all appropriate EPA and SAB Staff Office procedural policies.

Background

The purpose of the public teleconference is: (1) To obtain Agency feedback on the HSAC's comments presented to the Agency on its SAM and WS Programs discussed at the consultation held on January 30-31, 2006; and (2) to be briefed on three upcoming HSAC projects, including Provisional Advisory Levels (PALS), the Emergency Consequence Assessment Tool (ECAT), and Preliminary Microbial Risk Assessment Methodologies.

Standard Analytical Methods (SAM) and WaterSentinel (WS)

On January 30-31, 2006 the HSAC provided a consultation with the Agency on its SAM and WS projects (Federal Register Notice dated December 19, 2005, Volume 70, Number 242, pages 75173-75174). The SAM project standardizes the analytical methods for use by all laboratories when responding to incidents that require rapid analysis. The WS program is being developed by the EPA in partnership with drinking water utilities and other key stakeholders. This initiative involves designing, deploying, and evaluating a model contamination warning system for drinking water security. The Agency will provide updates to the HSAC on WS and SAM.

Provisional Advisory Levels (PALs)

Health-based exposure guidelines to identify acceptable re-entry levels following a terrorist attack of natural disaster are not available for most chemical and biological agents. The National Homeland Security Research Center (NHSRC) is developing health-based exposure levels for the general public, including the susceptible and sensitive subpopulations of all age groups. In particular, the developed PALs will address the limitations of other derived exposure values. For example, PALs can fill the critical exposure gap between acute exposure guideline levels (AEGLs) and short-term RfC/RfD exposure values.

The PALs can be applied for national emergency programs, community planning, and public health protection. Specifically, PALs are appropriate for establishing health-based criteria for re-entry into buildings, reuse of drinking water, and cleanup of contaminated facilities.

Emergency Consequence Assessment Tool (ECAT)

The NHSRC is developing an interactive online risk assessment software tool designed to provide health advisors and other emergency response officials with rapid access to critical information during an environmental emergency or training exercise. ECAT is designed to (1) Assess and provide site-specific numeric estimates of health risks (where feasible) for selected chemical, biological, and radiological threat agents, (2) identify what response actions might be appropriate to mitigate health risks, and (3) provide guidance on how to effectively communicate key risk messages to the public.

Preliminary Microbial Risk Assessment Methodologies

The NHSRC conducts research in support of safe buildings, secure water systems and the rapid assessment of risk. The question “How clean is safe?” has confronted several EPA program offices. Recent national homeland security interests have increased demand for answers to this question. Because consensus methodologies for evaluating biological contaminants and establishing cleanup levels are not available, NHSRC is developing a biological risk assessment methodology. NHSRC has compiled a Compendium of Prior and Current Microbial Risk Assessment Methods. This Compendium has been used to develop a Microbial Risk Assessment Framework for Incident Response to Bioagents. The preliminary framework considers inhalation, ingestion, and dermal exposure pathways and is designed as a two-tier process to support risk management decisions for evacuation and site re-entry. A Tier I Site Assessment supports rapid decisions, such as when evacuating populations within hours of an incident is required. Tier II provides an incident-based site assessment approach and requires site-specific data to support re-entry decisions. The Tier II consists of Hazard Identification, Dose-Response Assessment and Exposure Assessment, which are combined to characterize risk to exposed population(s) at a site.

Availability of Meeting Materials

The draft agenda and other materials will be posted on the SAB Web site at: http://www.epa.gov/sab/ prior to the meeting.

Procedures for Providing Public Input

Interested members of the public may submit relevant written or oral information for these SAB committees to consider during the advisory process. Oral Statements: In general, individuals or groups requesting an oral presentation at a public SAB teleconference will be limited to three minutes per speaker, with no more than a total of one-half hour for all speakers. Interested parties should contact Ms. Vivian Turner, DFO, in writing (preferably via e-mail), by November 6, 2006, at the contact information noted above, to be placed on the public speaker list for this meeting. Written Statements: Written statements should be received in the SAB Staff Office by November 2, 2006, so that the information may be made available to the HSAC for its consideration prior to this meeting. Written statements should be supplied to the DFO in the following formats: One hard copy with original signature, and one electronic copy via e-mail (acceptable file format: Adobe Acrobat PDF, WordPerfect, MS Word, MS PowerPoint, or Rich Text files in IBM-PC/Windows 98/2000/XP format).

Accessibility

For information on access or services for individuals with disabilities, please contact Ms. Vivian Turner at (202) 343-9697 or turner.vivian@epa.gov. To request accommodation of a disability, please contact Ms. Turner preferably at least ten days prior to the meeting, to give EPA as much time as possible to process your request.

Dated: October 17, 2006.
Anthony F. Maciorowski,
Associate Director for Science, EPA Science Advisory Board Staff Office.

[FR Doc. E6-17804 Filed 10-23-06; 8:45 am]

BILLING CODE 6560-50-P